ENVIRONMENTAL PROTECTION AGENCY

40 CFR Part 52

[EPA-R05-OAR-2005-IN-0007; FRL-8036-3]

Approval and Promulgation of Air Quality Implementation Plans; Indiana; Dearborn County Sulfur Dioxide Emission Limits

AGENCY: Environmental Protection Agency (EPA).

ACTION: Final rule.

SUMMARY: On November 25, 2005 (70 FR 70999), EPA published a direct final rule approving revisions to Indiana's sulfur dioxide (SO2) state implementation plan (SIP) for sources located in Dearborn County. These revisions to the SIP include: revising SO2 emission limits for existing sources; making minor corrections by removing obsolete rule language; and updating information for sources listed in the rule. On November 25, 2005 (70 FR 71071), EPA also published a proposed rule on this revision. The direct final rule stated that if EPA received an adverse comment, EPA would withdraw the direct final rule and address all public comments received in a subsequent final rule based on the proposed rule. EPA received an adverse comment and removed the direct final rule on January 27, 2006 (71 FR 4490). This rule responds to the comments received and announces EPA's final action.

DATES: This final rule is effective on March 30, 2006.

ADDRESSES: EPA has established a docket for this action under Docket ID No. EPA-R05-OAR-2005-IN-0007. All documents in the docket are listed on the http://www.regulations.gov Web site. Although listed in the index, some information is not publicly available, i.e., Confidential Business Information (CBI) or other information whose disclosure is restricted by statute. Certain other material, such as copyrighted material, is not placed on the Internet and will be publicly available only in hard copy form. Publicly available docket materials are available either electronically through http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Charles Hatten, Environmental Engineer, at (312) 886-6031 before visiting the Region 5 office.

FOR FURTHER INFORMATION CONTACT: Charles Hatten, Environmental Engineer, Criteria Pollutant Section, Air Programs Branch (AR-18J), EPA Region 5, 77 West Jackson Boulevard, Chicago, Illinois 60604, (312) 886-6031, hatten.charles@epa.gov.

SUPPLEMENTARY INFORMATION: Throughout this document whenever we, us, or your is used, we mean EPA. This supplementary information section is arranged as follows:

I. General Information
II. Public Comments Received and EPA Response
III. What Are the Changes From the Current Rule?
IV. What Action Is EPA Taking Today?
V. Statutory and Executive Order Review

I. General Information

This action applies to specific SO2 sources located in Dearborn County, Indiana. The SIP revision amends Title 326 of the Indiana Administrative Code (IAC), section 7-4-13, by revising the SO2 emission limits for the Indiana Michigan Power Tanners Creek Station. The SIP revision also makes minor corrections and removes obsolete rule language, and updates information for other companies listed in 326 IAC 7-4-13. Indiana held public hearings on these revisions on May 5, 2004 and October 6, 2004.

II. Public Comments Received and EPA Response

Three comments on the rulemaking were submitted to EPA, through the electronic public docket and comment system. One commenter expressed support for the rule. A second commenter stated that he didn't “understand what the rule was about,” while a third commenter stated that he “disagreed.” Because the latter two commenters failed to provide any further information or explain the bases for their comments, EPA is unable to respond beyond directing them to the rationale for approval discussed below.

III. What Are the Changes From the Current Rule?

Indiana's SO2 emission limits for Dearborn County are contained in 326 IAC 7-4-13. The current SO2 emission limitations in 326 IAC 7-4-13 are based on air quality modeling used by the State when EPA approved the SIP in 1987. The SIP revision amends 326 IAC 7-4-13, as described below.

A. Indiana Michigan Power Tanners Creek Station

The SIP revision removes obsolete rule language that included interim requirements restricting the SO2 emission limits for the Indiana Michigan Power Tanners Creek Station, Unit 4. These interim requirements are no longer necessary, and have been deleted; the rule limits Unit 4 to an SO2 emission limit of five and twenty-four hundredths (5.24) pounds per MMBTU since August 1, 1991. This revision reflects these changes. This SIP revision also adds source identification number, No. 00002, to the Indiana Michigan Power Tanners Creek Station.

B. Schenley Distillers, Inc.

Schenley Distillers, Inc. closed in 1998 and has been removed from the rule.

C. Joseph E. Seagram and Sons, Inc.

The revision changes the name from Joseph E. Seagram and Sons, Inc. to Pernod Ricard USA, Seagram Lawrenceburg Distillery. The company has removed one boiler listed in the current rule, and renamed the remaining boiler. This revision reflects this change. The revision also adds source identification number, No. 00005, to the Pernod Ricard USA, Seagram Lawrenceburg Distillery.

D. Diamond Thatcher Glass

The furnaces formerly owned by Diamond Thatcher Glass are owned by Anchor Glass Container Corporation, and have been renamed as such. This revision reflects this change. The revision also adds source identification number, No. 00007, to the Anchor Glass Container Corporation.

IV. What Action Is EPA Taking Today?

EPA is approving revisions to 326 IAC 7-4-13, which contains the SO2 emission limitations for existing stationary sources located in Dearborn County, Indiana. The SIP revision amends 326 IAC 7-4-13, by removing obsolete rule language for the Indiana Michigan Power Tanners Creek Station, and by making minor revisions for other companies listed in 326 IAC 7-4-13, including adding source identification numbers.

V. Statutory and Executive Order Review

Executive Order 12866: Regulatory Planning and Review

Under Executive Order 12866 (58 FR 51735, October 4, 1993), this action is not a “significant regulatory action” and therefore is not subject to review by the Office of Management and Budget.

Executive Order 13211: Actions Concerning Regulations That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This action merely approves state law as meeting federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13132: Federalism

This action also does not have Federalism implications because it does not have substantial direct effects on the states, on the relationship between the national government and the states, or on the distribution of power and responsibilities among the various levels of government, as specified in Executive Order 13132 (64 FR 43255, August 10, 1999). This action merely approves a state rule implementing a Federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by May 1, 2006. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Reporting and recordkeeping requirements, Sulfur oxides.

Dated: February 10, 2006.
Norman Niedergang,
Acting Regional Administrator, Region 5.

For the reasons stated in the preamble, part 52, chapter I, of title 40 of the Code of Federal Regulations is amended as follows:

PART 52—[AMENDED]

1. The authority citation for part 52 continues to read as follows:

Authority: 42 U.S.C. 7401 et seq.

Subpart P—Indiana

2. Section 52.770 is amended by adding paragraph (c)(171) to read as follows:

§ 52.770 Identification of plan.

* * * * *

(c) * * *

(171) On April 8, 2005, Indiana submitted final adopted revisions for the Dearborn County sulfur dioxide emission limitations in 326 IAC 7-4-13 as a requested revision to the Indiana state implementation plan. EPA is approving these revisions, which remove obsolete rule language for Indiana Michigan Tanners Creek Station and update information for other companies listed in the rule.

(i) Incorporation by reference. (A) Indiana Administrative Code Title 326: Air Pollution Control Board, Article 7: Sulfur Dioxide Rules, Rule 4: Emission Limitations and Requirements by County, Section 13: Dearborn County Sulfur Dioxide Emission Limitations. Filed with the Secretary of State on February 14, 2005, and effective March 16, 2005. Published in the Indiana Register on April 1, 2005 (28 IR 2021).

* * * * *

[FR Doc. 06-1786 Filed 2-27-06; 8:45 am]

BILLING CODE 6560-50-P